DEPARTMENT OF THE INTERIOR

Fish and Wildlife Service

Receipt of Applications for Permit

AGENCY: Fish and Wildlife Service, Interior.

ACTION: Notice of receipt of applications for permit.

SUMMARY: The public is invited to comment on the following applications to conduct certain activities with endangered species and marine mammals.

DATES: Written data, comments or requests must be received by September 30, 2005.

ADDRESSES: Documents and other information submitted with these applications are available for review, subject to the requirements of the Privacy Act and Freedom of Information Act, by any party who submits a written request for a copy of such documents within 30 days of the date of publication of this notice to: U.S. Fish and Wildlife Service, Division of Management Authority, 4401 North Fairfax Drive, Room 700, Arlington, Virginia 22203; fax 703/358-2281.

FOR FURTHER INFORMATION CONTACT: Division of Management Authority, telephone 703/358-2104.

SUPPLEMENTARY INFORMATION:

Endangered Species

The public is invited to comment on the following applications for a permit to conduct certain activities with endangered species. This notice is provided pursuant to Section 10(c) of the Endangered Species Act of 1973, as amended (16 U.S.C. 1531 et seq.). Written data, comments, or requests for copies of these complete applications should be submitted to the Director (address above).

Applicant: High Delta, Delhi, LA, PRT-107782.

The applicant requests a permit to authorize interstate and foreign commerce, export and cull of excess male barasingha (Cervus duvauceli) from the captive herd maintained at their facility for the purpose of enhancement of the survival of the species. This notification covers activities to be conducted by the applicant over a five year period.

Applicant: Don J. Hohensee, Mathews, LA, PRT-106686.

The applicant requests a permit to import the sport-hunted trophy of one male bontebok (Damaliscus pygargus pygargus) culled from a captive herd maintained under the management program of the Republic of South Africa, for the purpose of enhancement of the survival of the species.

Applicant: Albert A. Wolfe, Pilot Point, TX, PRT-106636.

The applicant requests a permit to import the sport-hunted trophy of one male bontebok (Damaliscus pygargus pygargus) culled from a captive herd maintained under the management program of the Republic of South Africa, for the purpose of enhancement of the survival of the species.

Applicant: Brett A. Nelson, Fairbanks, AK, PRT-106635.

The applicant requests a permit to import the sport-hunted trophy of one male bontebok (Damaliscus pygargus pygargus) culled from a captive herd maintained under the management program of the Republic of South Africa, for the purpose of enhancement of the survival of the species.

Applicant: Joseph S. Brannen, Inverness, FL, PRT-106850.

The applicant requests a permit to import the sport-hunted trophy of one male bontebok (Damaliscus pygargus pygargus) culled from a captive herd maintained under the management program of the Republic of South Africa, for the purpose of enhancement of the survival of the species.

Marine Mammals

The public is invited to comment on the following applications for a permit to conduct certain activities with marine mammals. The applications were submitted to satisfy requirements of the Marine Mammal Protection Act of 1972, as amended (16 U.S.C. 1361 et seq.), and the regulations governing marine mammals (50 CFR Part 18). Written data, comments, or requests for copies of the complete applications or requests for a public hearing on these applications should be submitted to the Director (address above). Anyone requesting a hearing should give specific reasons why a hearing would be appropriate. The holding of such a hearing is at the discretion of the Director.

Applicant: Randall W. Davis, Texas A & M University, Galveston, TX, PRT-078744.

The applicant requests an amendment to this permit which currently authorizes take by harassment of up to 200 wild northern sea otters (Enhydra lutris kenyoni) for the purpose of scientific research. The permittee is currently authorized to measure otter foraging depth and to opportunistically recover and necropsy sea otter carcasses. The applicant requests authorization to photo-identify these 200 otters and subsequently monitor their movement patterns using photo-identification. This notification covers activities to be conducted by the applicant over a five-year period.

Applicant: Alaska Science Center, USGS, Anchorage, AK, PRT-067925.

The applicant requests an amendment to this permit which currently authorizes the capture, handling, sample collection, and tagging of up to 27 wild southern sea otters (Enhydra lutris nereis) and up to 150 wild northern sea otters (Enhydra lutris kenyoni), as well as the importation of biological samples of Enhydra lutris nereis, Enhydra lutris kenyoni, and Enhydra lutris lutris for purposes of scientific research. The applicant requests authorization to continue permitted research activities on these subspecies of sea otters, as identified above, inclusive of northern sea otters (Enhydra lutris kenyoni) from within the Southwest Alaska distinct population segment, recently listed as “threatened” under the U.S. Endangered Species Act. This notification covers activities to be conducted by the applicant over a five-year period.

Concurrent with the publication of this notice in the Federal Register, the Division of Management Authority is forwarding copies of the above applications to the Marine Mammal Commission and the Committee of Scientific Advisors for their review.

Applicant: Larry D. Atkinson, Stuttgart, AR, PRT-102916.

The applicant requests a permit to import a polar bear (Ursus maritimus) sport hunted from the Lancaster Sound polar bear population in Canada for personal, noncommercial use.

Applicant: Raymond L. Howell, La Crescent, MN, PRT-106529.

The applicant requests a permit to import a polar bear (Ursus maritimus) sport hunted from the Lancaster Sound polar bear population in Canada for personal, noncommercial use.

Applicant: Jerri Frehner, Las Vegas, NV, PRT-106486.

The applicant requests a permit to import a polar bear (Ursus maritimus) sport hunted from the Lancaster Sound polar bear population in Canada for personal, noncommercial use.

Applicant: Garth E. Frehner, Las Vegas, NV, PRT-106532.

The applicant requests a permit to import a polar bear (Ursus maritimus) sport hunted from the Lancaster Sound polar bear population in Canada for personal, noncommercial use.

Dated: August 12, 2005.
Monica Farris,
Senior Permit Biologist, Branch of Permits, Division of Management Authority.

[FR Doc. 05-17329 Filed 8-30-05; 8:45 am]

BILLING CODE 4310-55-U